SMALL BUSINESS ADMINISTRATION

[Disaster Declaration #16162 and #16163; Florida Disaster Number FL-00146]

Presidential Declaration Amendment of a Major Disaster for Public Assistance Only for the State of Florida

AGENCY: U.S. Small Business Administration.

ACTION: Amendment 1.

SUMMARY: This is an amendment of the Presidential declaration of a major disaster for Public Assistance Only for the State of Florida (FEMA-4468-DR), dated 10/21/2019.

Incident: Hurricane Dorian.

Incident Period: 08/28/2019 through 09/09/2019.

DATES: Issued on 12/09/2019.

Physical Loan Application Deadline Date: 12/20/2019.

Economic Injury (EIDL) Loan Application Deadline Date: 07/21/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of Florida, dated 10/21/2019, is hereby amended to include the following areas as adversely affected by the disaster.

Primary Counties: Broward, Volusia.

All other information in the original declaration remains unchanged.

(Catalog of Federal Domestic Assistance Number 59008)

James Rivera,
Associate Administrator for Disaster Assistance.

[FR Doc. 2019-27056 Filed 12-13-19; 8:45 am]

BILLING CODE 8026-03-P